DEPARTMENT OF JUSTICE

Notice of Lodging of Proposed Consent Decree Under the Comprehensive Environmental Response, Compensation, and Liability Act

On March 30, 2021, the Department of Justice lodged a proposed consent decree with the United States District Court for the Southern District of Illinois in the lawsuit entitled United States and Illinois v. XTRA Intermodal, Inc. and X-L-Co., Inc., Civil Action No. 3:21-cv-00339.

The proposed Consent Decree (1) resolves the liability of XTRA Intermodal, Inc. and X-L-Co., Inc. (collectively “XTRA”) under the Comprehensive Environmental Response, Compensation, and Liability Act (CERCLA), 42 U.S.C. 9606-9607, for cleanup activities and natural resource damages at the Old American Zinc Plant Superfund Site located in Fairmont City and Washington Park, Illinois (the “Site”), on an ability-to-pay basis; and (2) resolves potential CERCLA counterclaims by XTRA against the United States. The proposed Consent Decree requires XTRA to confess to entry of a judgment in favor of the United States in the amount of $41,472,032 for past and future response costs and in favor of the State of Illinois in the amount of $528,250 for natural resource damages, to be satisfied through a $2 million monetary payment, sale of the portion of the Site currently owned by XTRA, and attempted recovery of insurance proceeds. The United States, on behalf of the General Services Administration, will resolve its alleged Site-related CERCLA liabilities through payment of $37,106,035 to the U.S. Environmental Protection Agency for past and future response costs and $471,750 to Illinois for natural resource damages.

The publication of this notice opens a period for public comment on the proposed Consent Decree. Comments should be addressed to the Assistant Attorney General, Environment and Natural Resources Division, and should refer to United States and Illinois v. XTRA Intermodal, Inc. and X-L-Co., Inc., D.J. Ref. Nos. 90-11-3-11215 and 90-11-6-20288. All comments must be submitted no later than 30 days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department website: https://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $10.25 (25 cents per page reproduction cost) payable to the United States Treasury.

Patricia S. McKenna,
Assistant Section Chief, Environmental Enforcement Section, Environment and Natural Resources Division.

[FR Doc. 2021-07183 Filed 4-6-21; 8:45 am]

BILLING CODE 4410-15-P